DEPARTMENT OF TRANSPORTATION

Federal Aviation Administration

14 CFR Part 39

[Docket No. 86-ANE-7; Amendment 39-13822; AD 2004-21-01]

RIN 2120-AA64

Airworthiness Directives; Hartzell Propeller Inc. (formerly Hartzell Propeller Products Division) Model HC-B5MP-3( )/M10282A( )+6 Five Bladed Propellers

AGENCY: Federal Aviation Administration (FAA), DOT.

ACTION: Final rule; request for comments.

SUMMARY: The FAA is superseding an existing AD for certain Hartzell Propeller Inc. (formerly Hartzell Propeller Products Division) Model HC-B5MP-3( )/M10282A( )+6 five bladed propellers. That AD currently requires initial and repetitive torque check inspections on the attach bolts on certain model Hartzell HC-B5MP-3 five bladed propellers, and replacement of attach bolts if necessary. This AD requires the same inspections, but reduces compliance time for the initial inspection on certain Short Brothers Ltd. Model SD3-30 airplanes to before further flight and within 100 hours time-in-service for propellers installed on certain Aerospatiale (Nord) Model 262A airplanes. This AD also requires repetitive torque check inspections at reduced intervals on SD3-30 airplanes, and requires additional visual inspections of mounting flanges, and threads in hub bolt holes, and replacement of attach bolts and hubs, if necessary. This AD results from four reports in the last 12 months of eleven cracked or failed propeller attach bolts on Short Brothers Model SD3-30 airplanes. We are issuing this AD to prevent propeller separation from the airplane.

DATES: Effective October 19, 2004. The Director of the Federal Register approved the incorporation by reference of certain publications listed in the regulations as of October 19, 2004.

We must receive any comments on this AD by December 13, 2004.

ADDRESSES: Use one of the following addresses to submit comments on this AD:

• By mail: Federal Aviation Administration (FAA), New England Region, Office of the Regional Counsel, Attention: Rules Docket No. 86-ANE-7, 12 New England Executive Park, Burlington, MA 01803-5299.

• By fax: (781) 238-7055.

• By e-mail: 9-ane-adcomment@faa.gov.

You can get the service information referenced in this AD from Hartzell Propeller Inc. Technical Publications Department, One Propeller Place, Piqua, OH 45356; telephone (937) 778-4200; fax (937) 778-4391.

You may examine the AD docket, by appointment, at the FAA, New England Region, Office of the Regional Counsel, 12 New England Executive Park, Burlington, MA. You may examine the service information, by appointment, at the FAA, New England Region, Office of the Regional Counsel, 12 New England Executive Park, Burlington, MA; or at the National Archives and Records Administration (NARA). For information on the availability of this material at NARA, call 202-741-6030, or go to: http://www.archives.gov/federal_register/code_of_federal_regulations/ibr_locations.html.

FOR FURTHER INFORMATION CONTACT: Tomaso DiPaolo, Aerospace Engineer, Chicago Aircraft Certification Office, FAA, Small Airplane Directorate, 2300 East Devon Avenue, Des Plaines, IL 60018; telephone: (847) 294-7031; fax: (847) 294-7834.

SUPPLEMENTARY INFORMATION: On March 7, 1986, the FAA issued AD 86-06-02, Amendment 39-5259 (51 FR 10613, March 28, 1986). That AD requires initial and repetitive torque check inspections on the attach bolts on certain model Hartzell HC-B5MP-3 five bladed propellers installed on Aerospatiale (Nord) Model 262A airplanes modified by Supplemental Type Certificate (STC) SA2369SW, and Short Brothers Ltd. Model SD3-30 airplanes. Some SD3-30 airplanes are military surplus C23-A Sherpas airplanes. That AD was the result of investigations that revealed fretting wear between the engine and propeller mating flanges. The fretting wear results in loss of attach bolt preload, causing failure of the attach bolts. That condition, if not corrected, could result in propeller separation from the airplane.

Actions Since AD 86-06-02 Was Issued

Since February 2004, we received four reports of failed propeller attach bolts, part number (P/N) B-3339:

• In February 2004, an operator reported a cracked Hartzell propeller attach bolt. The operator discarded the bolt and we could not perform a metallurgical investigation on the bolt.

• In June of 2004, another operator reported two broken propeller attach bolts. Both bolts were examined and one was selected for metallurgical investigation. This bolt was found to meet type design.

• In September of 2004, the Milwaukee Flight Standards District Office informed us that they received an operator's report of seven cracked or failed propeller attach bolts. All seven bolts were installed on the same propeller, and were found after a pilot reported problems with engine controls. We contacted Hartzell for assistance in investigating the bolt failure. The propeller hub and engine flange are being investigated for fretting, flatness, and thread damage.

• In late September of 2004, during the review of the maintenance history of one of the above propellers, we found a fourth event of a cracked propeller attach bolt.

Relevant Service Information

We have reviewed and approved the technical contents of Hartzell Alert Service Bulletin (ASB) A203A, dated January 5, 1995, that describes procedures for performing initial and repetitive inspections of attach bolts and if necessary, visual inspections of propeller mounting flanges.

Differences Between This AD and the Service Information

Although Hartzell ASB A203A, dated January 5, 1995, requires an initial torque check inspection within the next 100 hours TIS from the effective date of the original bulletin (dated September 2, 1994) for Short Brothers Ltd. Model SD3-30 airplanes, this AD requires an initial torque check inspection before further flight for SD3-30 airplanes. Also, although that ASB requires an initial torque check inspection within the next 120 hours TIS from the effective date of the original bulletin (September 2, 1994) for Aerospatiale (Nord) Model 262A airplanes, this AD requires an initial torque check inspection within 100 hours TIS for 262A airplanes.

FAA's Determination and Requirements of This AD

The unsafe condition described previously is likely to exist or develop on other Model HC-B5MP-3( )/M10282A( )+6 five bladed propellers of the same type design installed on Aerospatiale (Nord) Model 262A airplanes modified by STC SA2369SW, and Short Brothers Ltd. Model SD3-30 airplanes. We are issuing this AD to prevent propeller separation from the airplane. This AD requires the following:

• Before further flight, performing an initial torque check inspection of the propeller attach bolts on Short Brothers Ltd. Model SD3-30 airplanes unless already done within the last 120 hours TIS before the effective date of this AD; and

• Repetitive torque check inspections of the propeller attach bolts within 120 hours TIS from the last inspection.

• Within 100 hours TIS after the effective date of this AD, performing an initial torque check inspection of the propeller attach bolts on Aerospatiale (Nord) Model 262A airplanes; and

• Repetitive torque check inspections of the propeller attach bolts within 100 hours TIS from the last inspection.

• If the bolts fail the torque check, then visually inspect threads in hub bolt holes, and replace attach bolts and hub if necessary.

You must use the service information described previously to perform the actions required by this AD.

FAA's Determination of the Effective Date

Since an unsafe condition exists that requires the immediate adoption of this AD, we have found that notice and opportunity for public comment before issuing this AD are impracticable, and that good cause exists for making this amendment effective in less than 30 days.

Interim Action

These actions are interim actions and we may take further rulemaking actions in the future.

Comments Invited

This AD is a final rule that involves requirements affecting flight safety and was not preceded by notice and an opportunity for public comment; however, we invite you to submit any written relevant data, views, or arguments regarding this AD. Send your comments to an address listed under ADDRESSES. Include “AD Docket No. 86-ANE-7” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us verbally, and that contact relates to a substantive part of this AD, we will summarize the contact and place the summary in the docket. We will consider all comments received by the closing date and may amend the AD in light of those comments.

We are reviewing the writing style we currently use in regulatory documents. We are interested in your comments on whether the style of this document is clear, and your suggestions to improve the clarity of our communications with you. You may get more information about plain language at http://www.faa.gov/language and http://www.plainlanguage.gov/.

Examining the AD Docket

You may examine the AD Docket (including any comments and service information), by appointment, between 8 a.m. and 4:30 p.m., Monday through Friday, except Federal holidays. See ADDRESSES for the location.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 86-ANE-7” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Amendment 39-5259 (51 FR 10613, March 28, 1986), and by adding a new airworthiness directive, Amendment 39-XXXXX, to read as follows:

2004-21-01 Hartzell Propeller Inc. (formerly Hartzell Propeller Products Division): Amendment 39-13822. Docket No. 86-ANE-7. Supersedes AD 86-06-02, Amendment 39-5259.

Effective Date

(a) This airworthiness directive (AD) becomes effective October 19, 2004.

Affected ADs

(b) This AD supersedes AD 86-06-02.

Applicability

(c) This AD applies to Hartzell Propeller Inc. (formerly Hartzell Propeller Products Division) Model HC-B5MP-3( )/M10282A( )+6 five-bladed propellers installed on, Aerospatiale (Nord) Model 262A airplanes modified by Supplemental Type Certificate (STC) SA2369SW, and Short Brothers Ltd. Model SD3-30 airplanes.

Unsafe Condition

(d) This AD results from four reports in the last 8 months of eleven cracked or failed Hartzell propeller attach bolts, part number (P/N) B-3339, on Short Brothers Model SD3-30 airplanes. The actions specified in this AD are intended to prevent propeller separation from the airplane.

(e) You are responsible for having the actions required by this AD performed within the compliance times specified unless the actions have already been done.

Torque Check Requirements for Short Brothers Ltd. Model SD3-30 Airplanes

(f) Before further flight, for propellers installed on Short Brothers Ltd. Model SD3-30 airplanes, do the following:

(1) Perform an initial torque check inspection of the Hartzell propeller attach bolts, P/N B-3339, unless already done within 120 hours time-in-service (TIS) before the effective date of this AD, and thereafter, within 120 hour TIS intervals since the last inspection. Use Procedure #1 “Mounting Bolt Torque Check” of Hartzell Alert Service Bulletin (ASB) A203A, dated January 5, 1995, to do the inspections.

(2) If the torque check fails, remove the propeller and go to paragraph (h) of this AD.

Torque Check Requirements for Aerospatiale (Nord) Model 262A Airplanes Modified by STC SA2369SW

(g) For propellers installed on Aerospatiale (Nord) Model 262A airplanes modified by STC SA2369SW, do the following:

(1) Perform an initial torque check inspection of the Hartzell propeller attach bolts, P/N B-3339, within 100 hours TIS after the effective date of this AD, and thereafter, within 100 hour TIS intervals since the last inspection. Use Procedure #1 “Mounting Bolt Torque Check” of Hartzell Alert Service Bulletin (ASB) A203A, dated January 5, 1995, to do the inspections.

(2) If the torque check fails, remove the propeller and go to paragraph (h) of this AD.

Inspection and Rework of Engine and Propeller Mounting Flange Surfaces and Hub Mounting Bolt Holes

(h) When the propeller is removed due to failing the torque check in Procedure #1 of Hartzell ASB A203A, dated January 5, 1995, inspect and rework if necessary, the engine and propeller mounting flange surfaces. Use Procedure #2 “Engine/Propeller Mounting Flanges” of Hartzell ASB A203A, dated January 5, 1995, to do the inspections and rework. Also inspect the hub mounting bolt holes as follows:

(1) Clean bolt holes using Stoddard solvent or equivalent and a soft bristle brush.

(2) Visually inspect the area around the bolt holes. No deformations, evidence of rework, depressions, or protrusions around bolt holes are permitted, except for an edge chamfer of the bolt hole up to 0.030 inch.

(3) Using a 10X magnification, and an appropriate light source, visually inspect threads for chipping, missing material, deformation, and scratches. No damage is permitted.

(4) Using a new P/N B-3339 bolt, check threads by threading bolt by hand into the bolt hole. The bolt must thread in easily with no binding.

(5) Any hub with a bolt hole showing one or more of the prohibited conditions specified in paragraphs (h)(2) through (h(4) must be removed from service.

Preparation of Propeller Attach Bolts

(i) Before installing any Hartzell propeller attach bolt P/N B-3339, apply anti-seize compound MIL-PRF-83483, to the threaded surfaces of the attach bolt. Do not use any other anti-seize compound on attach bolts.

Preparation of Propeller Mounting and Engine Flanges

(j) Before installing a Hartzell HC-B5MP-3( )/M10282A( )+6 propeller, the propeller mounting flange and engine flange must be clean and dry. Do not use anti-fretting compounds on the flanges. You may install an FAA-approved Pratt & Whitney shim between the propeller mount flange and engine flange.

Alternative Methods of Compliance

(k) The Manager, Chicago Aircraft Certification Office, has the authority to approve alternative methods of compliance for this AD if requested using the procedures found in 14 CFR 39.19.

Special Flight Permits

(l) Under 14 CFR part 39.23, special flight permits are prohibited.

Material Incorporated by Reference

(m) You must use Hartzell Alert Service Bulletin A203A, dated January 5, 1995, to perform the procedures referenced by this AD. The Director of the Federal Register approved the incorporation by reference of this service bulletin in accordance with 5 U.S.C. 552(a) and 1 CFR part 51. You can get a copy from Hartzell Propeller Inc. Technical Publications Department, One Propeller Place, Piqua, OH 45356; telephone (937) 778-4200; fax (937) 778-4391. You may review copies at the FAA, New England Region, Office of the Regional Counsel, 12 New England Executive Park, Burlington, MA; or at the National Archives and Records Administration (NARA). For information on the availability of this material at NARA, call 202-741-6030, or go to: http://www.archives.gov/federal_register/code_of_federal_regulations/ibr_locations.html.

Related Information

(n) Information on propeller removal and installation procedures can be found in Hartzell Propeller Inc. Service Instruction 140A.

Issued in Burlington, Massachusetts, on October 4, 2004.
Jay J. Pardee,
Manager, Engine and Propeller Directorate, Aircraft Certification Service.

FR Doc. 04-22728 Filed 10-13-04; 8:45 am]

BILLING CODE 4910-13-P